SMALL BUSINESS ADMINISTRATION

[Declaration of Disaster #3271]

State of Minnesota; Amendment #4

In accordance with a notice from the Federal Emergency Management Agency, effective August 14, 2000, the above-numbered Declaration is hereby amended to include Chippewa County, Minnesota as a disaster area due to damages caused by severe storms, flooding, and tornadoes beginning on May 17, 2000, and continuing through July 26.

In addition, applications for economic injury loans from small businesses located in the contiguous counties of Kandiyohi and Swift in the State of Minnesota may be filed until the specified date at the previously designated location. Any counties contiguous to the above-named primary county and not listed herein have been previously declared.

All other information remains the same, i.e., the deadline for filing applications for physical damage is August 29, 2000 and for economic injury the deadline is March 30, 2001.

(Catalog of Federal Domestic Assistance Program Nos. 59002 and 59008.)

Dated: August 23, 2000.
Herbert L. Mitchell,
Acting Associate Administrator for Disaster Assistance.

[FR Doc. 00-22235 Filed 8-30-00; 8:45 am]

BILLING CODE 8025-01-P